Memorandum of April 14, 2011

Delegation of Functions and Authority Under Sections 315 and 325 of Title 32, United States Code

Memorandum for the Secretary of Defense

By the authority vested in me as President by the Constitution and the laws of the United States of America, including section 301 of title 3, United States Code, I hereby delegate to you: (a) the functions and authority of the President contained in section 315 of title 32, United States Code, to permit a commissioned officer of the Regular Army or Regular Air Force to accept a commission in the Army National Guard or the Air National Guard, as the case may be, terminable at your discretion, without prejudicing his or her rank and without vacating his or her regular appointment; and (b) the functions and authority of the President contained in section 325 of title 32, United States Code, to authorize the service of an officer of the Army National Guard or the Air National Guard on active duty without relieving that officer from duty in the National Guard of his or her State, or of the Commonwealth of Puerto Rico, Guam, or the United States Virgin Islands, or the District of Columbia and to give such authorization in advance for the purpose of establishing the succession of command of a unit.

This delegation of functions and authority supersedes and replaces the July 23, 2004, delegation to the Secretary of Defense of the functions and authority of the President contained in section 325 of title 32, United States Code.

You are further authorized and directed to make necessary arrangements to fund the exercise of these functions and authority from the proper appropriation, prescribe regulations to implement these functions and authority, and to publish this memorandum in the Federal Register.

THE WHITE HOUSE,

Washington, April 14, 2011

[FR Doc. 2011-9729

Filed 4-19-11; 8:45 am]

Billing code 5000-04-P